DEPARTMENT OF COMMERCE

Foreign-Trade Zones Board

[Order No. 2170]

Activation Limit Increase Under Alternative Site Framework; Foreign-Trade Zone 84; Houston, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the Port of Houston Authority, grantee of Foreign-Trade Zone 84, submitted an application to the Board (FTZ Docket B-36-2024, docketed June 26, 2024) for authority to increase the activation limit of the zone under the ASF to 3,000 acres;

Whereas, the application has been processed pursuant to the FTZ Act and the Board's regulations; and,

Whereas, the Board adopts the findings and recommendations of the examiner's report, and finds that the requirements of the FTZ Act and the Board's regulations are satisfied;

Now, therefore, the Board hereby orders:

The application to increase the activation limit of the zone under the ASF to 3,000 acres is approved, subject to the FTZ Act and the Board's regulations, including section 400.13.

Dated: October 23, 2024.
Dawn Shackleford,
Executive Director of Trade Agreements Policy & Negotiations, Alternate Chairman, Foreign-Trade Zones Board.

[FR Doc. 2024-25011 Filed 10-25-24; 8:45 am]

BILLING CODE 3510-DS-P